DEPARTMENT OF LABOR

Employment and Training Administration

[TA-W-64,598]

True Textiles, Inc., Also Known As Interface Fabrics, Elkin, NC; Notice of Termination of Investigation

Pursuant to Section 221 of the Trade Act of 1974, as amended, an investigation was initiated on December 8, 2008 in response to a worker petition filed by workers of True Textiles, Inc., also known as Interface Fabrics, Elkin, North Carolina.

The Department has determined that this petition is a photocopy of petition number TA-W-64,595, instituted on December 8, 2008. The investigation in that case is ongoing and a determination has not yet been issued. Therefore, further investigation in this case would serve no purpose, and the investigation is terminated.

Signed at Washington, DC, this 12th day of December 2008.
Linda G. Poole,
Certifying Officer, Division of Trade Adjustment Assistance.

[FR Doc. E8-30920 Filed 12-29-08; 8:45 am]

BILLING CODE 4510-FN-P